BUREAU OF CONSUMER FINANCIAL PROTECTION

[Docket No. CFPB-2022-0045]

Agency Information Collection Activities: Comment Request

Correction

In notice document 2022-14474 appearing on pages 40513-40514 in the issue of Thursday, July 7, 2022, make the following correction:

On page 40514, in the first column, under the DATES heading, in the third line, “October 5, 2022” should read “August 8, 2022”.

[FR Doc. C1-2022-14474 Filed 7-12-22; 8:45 am]

BILLING CODE 0099-10-D